ENVIRONMENTAL PROTECTION AGENCY

[FRL-7919-4; Docket ID Numbers: OAR-2005-0120 to OAR-2005-0121]

Agency Information Collection Activities: Proposed Collections; Request for Comment on Two Proposed Information Collection Requests (ICRs)

AGENCY: Environmental Protection Agency (EPA).

ACTION: Notice.

SUMMARY: In compliance with the Paperwork Reduction Act (44 U.S.C. 3501 et seq.), this document announces that EPA is planning to submit two continuing Information Collection Requests (ICRs) to the Office of Management and Budget (OMB). This is a request to renew two existing approved collections. These ICRs are scheduled to expire between August 31, 2005 and December 31, 2005 as listed below. Refer to section INFORMATION FOR INDIVIDUAL ICRS for information pertaining to each individual ICR. Before submitting these ICRs to OMB for review and approval, EPA is soliciting comments on specific aspects of the proposed information collections as described below.

DATES: Comments must be submitted on or before August 1, 2005.

ADDRESSES: Submit your comments, referencing the appropriate docket ID number listed under each ICR title (see below), to EPA online using EDOCKET (our preferred method), by email to a-and-r-docket@epamail.epa.gov, or by mail to: EPA Docket Center, Environmental Protection Agency, Air and Radiation Docket and Information Center, Mail Code 6102T, 1200 Pennsylvania Ave., NW., Washington, DC 20460.

FOR FURTHER INFORMATION CONTACT: Ms. Nydia Y. Reyes-Morales, Mail Code 6403J, Environmental Protection Agency, 1200 Pennsylvania Ave., NW., Washington, DC 20460; telephone number: 202-343-9264; fax number: 202-343-2804; email address: reyes-morales.nydia@epa.gov.

SUPPLEMENTARY INFORMATION: EPA has established a public docket for each ICR. The docket number of each ICR is listed below under the ICR title. The dockets are available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the appropriate docket ID number as identified below.

Any comments related to these ICRs should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Information for All ICRS

The information requested under all ICRs is collected by the Engine Programs Group, Certification and Compliance Division, Office of Transportation and Air Quality, Office of Air and Radiation. Confidentiality of proprietary information submitted by manufacturers is granted in accordance with the Freedom of Information Act, EPA regulations at 40 CFR part 2, and class determinations issued by EPA's Office of General Counsel.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

An estimated burden is provided for each ICR. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Information for Individual ICRS

(1) Title: Nonconformance Penalties for Heavy-Duty Engines and Heavy-Duty Vehicles, including Light-Duty Trucks; EPA ICR Number 1285.06, OMB Control Number 2060-0132, expiring on 7/31/2005.

Docket Number: OAR-2005-0120.

Affected entities: Entities potentially affected by this action are manufacturers of heavy-duty engines, heavy-duty vehicles and light-duty trucks.

Abstract: Section 206(g) of the Clean Air Act, as amended, contains nonconformance penalty provisions (NCP) that allow manufacturers to introduce into commerce heavy-duty engines or vehicles (including light-duty trucks) which fail to conform with certain emission standards upon payment of a monetary penalty. Manufacturers who elect to use NCPs are require to test production engines and vehicles to determine the extent of their nonconformity and conduct a Production Compliance Audit (PCA). The collection activities of the nonconformance penalty program include periodic reports and other information (including the results of emission testing conducted during the PCA). CCD will use this information to ensure that manufacturers are complying with the regulations and that appropriate nonconformance penalties are being paid. Responses to this collection are voluntary.

Burden Statement: The annual public reporting and recordkeeping burden is estimated to average 196 hours per response.

(2) Title: Exclusion Determinations for New Non-road Spark-ignited Engines, New Compression-ignited Engines, New On-road Heavy Duty Engines, New Marine Engines and New Locomotive Engines; EPA ICR Number 1852.03; OMB Control Number 2060-0395, expiring on 8/31/2005.

Docket Number: OAR-2005-0121.

Affected entities: Entities potentially affected by these actions are engine manufacturers, equipment manufacturers and importers.

Abstract: Some types of engines are excluded from compliance with current regulations. A manufacturer may make an exclusion determination by itself; however, manufacturers and importers may routinely request EPA to make such determination to ensure that their determination does not differ from EPA's. Only needed information such as engine type, horsepower rating, intended usage, etc., is requested to make an exclusion determination. Responses to this collection are voluntary.

Burden Statement: The annual public reporting and recordkeeping burden for this collection of information is estimated to average seven hours per response.

Dated: May 25, 2005.
Jeffrey R. Holmstead,
Assistant Administrator, Office of Air and Radiation.

[FR Doc. 05-10767 Filed 5-27-05; 8:45 am]

BILLING CODE 6560-50-P